FEDERAL COMMUNICATIONS COMMISSION

Federal Advisory Committee Act; Communications Security, Reliability and Interoperability Council

AGENCY: Federal Communications Commission.

ACTION: Notice of intent to establish.

SUMMARY: In accordance with the Federal Advisory Committee Act, the purpose of this notice is to announce that a Federal Advisory Committee, known as the “Communications Security, Reliability and Interoperability Council” (hereinafter the “Council”) is being established.

ADDRESSES: Federal Communications Commission, Public Safety & Homeland Security Bureau, Attn: Lisa M. Fowlkes, 445 12th Street, SW., Room 7-C753, Washington, DC 20554.

FOR FURTHER INFORMATION CONTACT: Lisa M. Fowlkes, Federal Communications Commission, Public Safety & Homeland Security Bureau, 445 12th Street, SW., Room 7-C753, Washington, DC 20554. Telephone: (202) 418-7452, e-mail: lisa.fowlkes@fcc.gov.

SUPPLEMENTARY INFORMATION: The Chairman of the Federal Communications Commission has determined that the establishment of the Council is necessary and in the public interest in connection with the performance of duties imposed on the Federal Communications Commission (“FCC” or “Commission”) by law. The Committee Management Secretariat, General Services Administration concurs with the establishment of the Council. The purpose of the Council is to provide recommendations to the FCC to ensure optimal security, reliability and interoperability of communications systems, including telecommunications, media and public safety communications systems. This Council will replace the Network Reliability and Interoperability Council (NRIC) and the Media Security and Reliability Council (MSRC). The Council's duties will include: (1) Recommending to the FCC best practices to ensure the security, reliability, operability and interoperability of public safety communications systems; (2) evaluating ways to strengthen the collaboration between communication service providers and public safety agencies during emergencies; (3) recommending to the FCC ways to improve the Emergency Alert System (EAS), including best practices for EAS; (4) recommending to the FCC steps necessary to better prepare for shifts in communications usage patterns that likely would result from a pandemic flu outbreak; (5) recommending to the FCC technologies and systems that can best facilitate the communication of emergency information to and from hospitals, schools, day care facilities and other facilities that provide vital public services; (6) developing and recommending to the FCC best practices to facilitate the communication of emergency information to the public, including people who do not speak English, individuals with disabilities, the elderly and people living in rural areas; (7) recommending to the FCC methods by which the communications industry can reliably and accurately measure the extent to which key best practices are implemented; (8) reviewing and recommending to the FCC updates of existing NRIC and MSRC best practices; (9) reviewing the deployment of Internet Protocol (IP) as a network protocol for critical next generation infrastructure, including emergency/first responder networks; and (10) reviewing and recommending to the FCC an implementation plan for the “emergency communications internetwork” advocated by NRIC VII, Focus Group 1D in its December 2005 Final Report.

Federal Communications Commission.
Marlene H. Dortch,
Secretary.

[FR Doc. E7-6254 Filed 4-3-07; 8:45 am]

BILLING CODE 6712-01-P